INTERNATIONAL TRADE COMMISSION

[Investigation No. 337-TA-619]

In the Matter of: Certain Flash Memory Controllers, Drives, Memory Cards, and Media Players and Products Containing Same; Notice of Commission Decision Not To Review an Initial Determination Granting-in-Part Complainant's Motion To Amend the Complaint and Amending the Notice of Investigation

AGENCY: U.S. International Trade Commission.

ACTION: Notice.

SUMMARY: Notice is hereby given that the U.S. International Trade Commission has determined not to review an initial determination (“ID”) (Order No. 40) issued by the presiding administrative law judge (“ALJ”) in the above-referenced investigation granting-in-part complainant's motion to amend the complaint and amending the notice of investigation.

FOR FURTHER INFORMATION CONTACT: Michelle Walters, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 12, 2007, based on a complaint filed by SanDisk Corporation (“SanDisk”). The complaint alleged violations of section 337 of the Tariff Act of 1930 (19 U.S.C. **1337) in the importation into the United States, the sale for importation, and the sale within the United States after importation of certain flash memory controllers, drives, memory cards, media players, and products containing the same by reason of infringement of various claims of five United States patents. The complaint named nearly fifty respondents.

On July 31, 2008, SanDisk moved to amend the complaint to (1) add Verbatim Americas, LLC as a respondent to reflect respondent Verbatim Corporation's corporate restructuring; (2) add as respondents Zhubai Chipsbank Microelectronics Co., Ltd. (“Zhubai”) and Chipsbrand Technologies (HK) Co., Ltd. (“Chipsbrand”), both of which are wholly-owned subsidiaries of respondent Chipsbank Technologies (Shenzhen) Co., Ltd. (“Chipsbank”); (3) clarify that claims 12, 14, 17, and 58 of U.S. Patent No. 6,426,893 are asserted against respondent Afa Technologies, Inc.; (4) assert claim 8 of U.S. Patent No. 7,137,011 against respondents Transcend Information, Inc. (Taiwan), Transcend Information, Inc. (California), and Transcend Information Maryland, Inc.; and (5) assert claims 24 and 30 of U.S. Patent No. 6,763,424 against respondent Chipsbank and proposed respondents Zhubai and Chipsbrand.

On September 12, 2008, the ALJ issued Order No. 40, granting SanDisk's motion with regard to items (1) and (2) and also so amending the notice of investigation, but denying the motion or finding it moot with regard to items (3)-(5). Only those portions of Order No. 40 granting SanDisk's motion and amending the notice of investigation constitute an initial determination subject to potential Commission review. No petitions for review of this ID were filed.

The Commission has determined not to review the ALJ's ID.

The authority for the Commission's determination is contained in section 337 of the Tariff Act of 1930, as amended (19 U.S.C. 1337), and in section 210.42 of the Commission's Rules of Practice and Procedure (19 CFR 210.42).

Issued: October 6, 2008.
By order of the Commission.
Marilyn R. Abbott,
Secretary to the Commission.

[FR Doc. E8-24128 Filed 10-9-08; 8:45 am]

BILLING CODE 7020-02-P